DEPARTMENT OF INTERIOR

National Park Service

[NPS-WASO-NRSS-EQD-SSB-17349; PPMCUVAI0, PXDCUVA0062.00.1]

Proposed Information Collection: The Use of Mobile Applications for Informal Learning in the Cuyahoga Valley National Park

AGENCY: National Park Service, Interior.

ACTION: Notice; request for comments.

SUMMARY: We (National Park Service) will ask the Office of Management and Budget (OMB) to approve the information collection (IC) concerning the use of mobile applications for visitor informal science learning in the Cuyahoga Valley National Park. As required by the Paperwork Reduction Act of 1995 and as part of our continuing efforts to reduce paperwork and respondent burden, we invite the general public and other federal agencies to take this opportunity to comment on this IC.

DATES: To ensure that your comments on this IC are considered, we must receive them on or before February 23, 2015.

ADDRESSES: Direct all written comments on this IC to Phadrea Ponds, Information Collection Coordinator, National Park Service, 1201 Oakridge Drive, Fort Collins, CO 80525 (mail); or phadrea_ponds@nps.gov (email). Please reference Information Collection 1024-CUVA in the subject line.

FOR FURTHER INFORMATION CONTACT: Rick Ferdig, Ph.D., Research Center for Educational Technology, School of Lifespan Development and Educational Sciences, Kent State University, Kent, OH 44242; rferdig@kent.com (email) or 330-672-3371 (phone).

SUPPLEMENTARY INFORMATION:

I. Abstract

Researchers from Cuyahoga Valley National Park (CUVA) and Kent State University would like to understand how visitors would use and interact with a mobile application (app) created specifically for science learning in the parks. We will use a pre and post knowledge survey to evaluate a developmental mobile app designed for visitor use while on-site in the park. The surveys will help us to understand the quality of science learning acquired by visitors using mobile applications. We will also administer a post trip survey to measure visitor satisfaction concerning the overall usability of the mobile app. The results from this collection will be used to provide feedback and updates regarding the further development of an app created specifically for science learning in the national parks.

II. Data

OMB Number: None. This is a new collection.

Title: The Use of Mobile Applications for Informal Learning in the Cuyahoga Valley National Park.

Type of Request: New.

Affected Public: General public who visit the Cuyahoga Valley National Park.

Respondent Obligation: Voluntary.

Frequency of Collection: Multiple times dependent on respondent.

Estimated Number of Annual Responses: 2,000.

Annual Burden Hours: 500 hours. We estimate the public reporting burden to be 2000 users × 15 minutes to complete the questionnaire.

Estimated Reporting and Recordkeeping “Non-Hour Cost” Burden: We have not identified any “non-hour cost” burdens associated with this collection of information.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: December 17, 2014.
Madonna L. Baucum,
Information Collection Clearance Officer, National Park Service.

[FR Doc. 2014-30063 Filed 12-22-14; 8:45 am]

BILLING CODE 4310-EH-P